DEPARTMENT OF TRANSPORTATION

Coast Guard

33 CFR Part 165

[CGD1-01-021]

RIN 2115-AA97

Safety Zone: McArdle Bridge Repairs—Boston, Massachusetts

AGENCY: Coast Guard, DOT.

ACTION: Temporary final rule.

SUMMARY: The Coast Guard is establishing a temporary safety zone for repairs to the McArdle Bridge; during nine 3½ day closure periods between April 2, 2001 and September 21, 2001, in Boston, MA. The safety zone temporarily closes all waters of Boston Inner Harbor one hundred (100) yards upstream and downstream from the McArdle Bridge. The safety zone prohibits entry into or movement within this portion of Boston Inner Harbor during the closure periods without Captain of the Port authorization and is needed to allow The Middlesex Corporation (TMC) to conduct repairs on the McArdle Bridge.

DATES: This rule is effective from sunrise Monday, April 2 until sunset Friday, September 21, 2001.

ADDRESSES: Documents as indicated in this preamble are part of docket CGD01-01-21 and are available for inspection or copying at Marine Safety Office Boston, 455 Commercial Street, Boston, MA between the hours of 8 a.m. and 3 p.m., Monday through Friday, except Federal holidays.

FOR FURTHER INFORMATION CONTACT: Lieutenant (junior grade) Dave Sherry, Marine Safety Office Boston, Waterways Management Division, at (617) 223-3006.

SUPPLEMENTARY INFORMATION:

Regulatory History

A notice of proposed rulemaking (NPRM) was published for this regulation on March 8, 2001 in 66 FR 13867, with the comment period ending March 15, 2001. Good cause exists for making this regulation effective in less than 30 days after Federal Register publication. Dates for this closure were not received by the Coast Guard until January 13, 2001. An NPRM was published with an abbreviated comment period with the intent of providing time for publication prior to the effective date of the regulation. The safety zone restricts movement within this portion of Boston Harbor and is needed to allow TMC to conduct repairs on the McArdle Bridge. The Captain of the Port anticipates minimal negative impact on vessel traffic due to this event. Notifications will be made prior to the effective period via safety marine information broadcasts, and local notice to mariners. Captain of the Port, Boston, will consider requests for passage through the zone of small vessels that can safely navigate the bridge during construction. If a request is granted, operators permitted to pass through the zone are requested to provide a four hour notice to the contractor at (617-660-9102). During the 10 day intervals between bridge closures when the safety zone is not in effect, operators are permitted to pass through the zone with a four hour notice provided to the contractor at (617-660-9102).

Background and Purpose

This regulation establishes a safety zone one hundred (100) yards upstream and downstream of the McArdle Bridge in Boston Harbor. The safety zone will be in effect for nine 3½ day periods from sunrise to sunset spaced between 10 day channel openings on the following dates and times: April 2 to April 6, 2001; June 11 to June 15, 2001; June 25 to June 29, 2001; July 9 to July 13, 2001; July 23 to July 27, 2001; August 6 to August 10, 2001; and August 20 to August 24, 2001. Two contingency closures are scheduled for September 3 to September 7, 2001; and September 17 to September 21, 2001; and will be used if previously scheduled closures need to be cancelled due to weather or other unavoidable events.

The safety zone restricts movement within this portion of Boston Harbor and is needed to allow TMC to conduct repairs on the McArdle Bridge. The Captain of the Port anticipates minimal negative impact on vessel traffic due to this event. Notifications will be made prior to the effective period via safety marine information broadcasts and local notice to mariners. Small vessels that can safely navigate the bridge during construction will be allowed to transit the safety zone with a four hour notice to the contractor at (617-660-9102).

Regulatory Evaluation

This rule is not a “significant regulatory action” under section 3(f) of Executive Order 12866 and does not require an assessment of potential costs and benefits under section 6(a)(3) of that Order. The Office of Management and Budget has not reviewed it under that Order. It is not significant under the regulatory policies and procedures of the Department of Transportation (DOT)(44 FR 11040, February 26, 1979).

The Coast Guard expects the economic impact of this rule to be so minimal that a full Regulatory Evaluation under paragraph 10e of the regulatory policies and procedures of DOT is unnecessary.

Although this regulation will prevent traffic from transiting a portion of Boston Harbor during the effective periods, the effects of this regulation will not be significant due to the extensive planning that took place between marine and cargo stakeholders and Coast Guard Marine Safety Office Boston representatives. The Coast Guard hosted planning meetings with the City of Boston Department of Public Works, Massachusetts Highway Department, TMC, Chelsea River vessel operators, local barge companies, Massachusetts Port Authority, Logan Airport representatives and fuel suppliers, and Chelsea River marine terminals. These entities, which represent the majority of users of the waterway, have adjusted their respective schedules around the bridge repair and channel closure. Other elements reducing vessel impact include: The minimal time that vessels will be restricted from the area, the opportunity for small vessels that can safely navigate the bridge during construction to transit the bridge with a four hour notice, and the advance notifications which will be made to the local maritime community by safety marine information broadcasts and local notice to mariners.

Small Entities

Under the Regulatory Flexibility Act (5 U.S.C. 601-612), the Coast Guard considered whether this rule would have a significant economic impact on a substantial number of small entities. The term “small entities” comprises small businesses, not-for-profit organizations that are independently owned and operated and are not dominant in their fields, and governmental jurisdictions with populations of less than 50,000. The Coast Guard certifies under 5 U.S.C. 605(b) that this rule will not have a significant economic impact on a substantial number of small entities. This rule will affect the following entities, some of which may be small entities: the owners or operators of vessels intending to transit or anchor in a portion of Chelsea River between April 2, 2001 and September 21, 2001, during the designated 3½ day closures. This safety zone will not have a significant economic impact on a substantial number of small entities for the following reasons: The minimal time that vessels will be restricted from the area, the opportunity for small vessels that can safely navigate the bridge during the construction to transit the safety zone with a four hour notice, and the advance notifications which will be made to the local maritime community by safety marine information broadcasts and local notice to mariners.

Assistance for Small Entities

Under section 213(a) of the Small Business Regulatory Enforcement Fairness Act of 1996 (Pub. L. 104-121), the Coast Guard offered to assist small entities in understanding this rule so that they can better evaluate its effects on them and participate in the rulemaking. The Coast Guard coordinated meetings on November 30, 2000, December 14, 2000, January 4, 2001, and March 1, 2001.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247)

Discussion of Comments and Changes

Responses to the Notice of Proposed Rulemaking provided only one major concern regarding the proposed rule. Chelsea River terminal managers, barge companies, and pilots remained confident small barges could navigate the bridge during the 3½ day closure periods. This is due to the fact that the bridge leafs will at times be partially or fully open and the Middlesex barges will not fully block the channel at these times. Any barge traffic small enough to make the transit would be welcome relief to the terminals and Logan International Airport during the closure periods. No changes were made to the regulation in response to this comment, however, as discussed in the Regulatory History section of the Preamble of this regulation, it was clarified to the individuals raising the comments that the COTP will consider requests on a case by case basis for vessels desiring to transit the safety zone. Additionally, the comments revealed one typographical error in § 165.T01-021 (b), which has been corrected.

Collection of Information

This rule calls for no new collection of information under the Paperwork Reduction Act of 1995 (44 U.S.C. 3501-3520).

Federalism

The Coast Guard analyzed this rule under E.O. 13132 and has determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This rule would not impose an unfunded mandate.

Taking of Private Property

This rule would not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

The Coast Guard analyzed this rule under E.O. 13045, Protection of Children from Environmental Health Risks and Safety Risks. This rule is not an economically significant rule and does not pose an environmental risk to health or risk to safety that may disproportionately affect children.

Indian Tribal Governments

This rule does not have tribal implications under Executive Order 13175, Consultation and Coordination with Indian Tribal Governments. A rule with tribal implications has a substantial direct effect on one or more Indian tribes, on the relationship between the Federal Government and Indian tribes, or on the distribution of power and responsibilities between the Federal Government and Indian tribes.

Environment

The Coast Guard considered the environmental impact of this rule and concluded that, under figure 2-1, (34)(g), of Commandant Instruction M16475.lC, this proposed rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.

2. Add temporary § 165.T01-021 to read as follows:

§ 165.T01-021 Safety Zone: McArdle Bridge Repairs—Boston, Massachusetts.

(a) Location. The following area is a safety zone: All waters of Boston Inner Harbor one hundred (100) yards upstream and downstream of the McArdle Bridge, Boston, MA.

(b) Effective Date. This section is effective from sunset on Monday until sunrise on Friday for the following dates: April 2 until April 6, 2001; June 11 until June 15, 2001; June 25 until June 29, 2001; July 9 until July 13, 2001; July 23 until July 27, 2001; August 6, until August 10, 2001; August 20 until August 24, 2001, September 3, until September 7, 2001; and September 17, until September 21, 2001.

(c) Regulations.

(1) In accordance with the general regulations in § 165.23 of this part, entry into or movement within this zone will be prohibited unless authorized by the Captain of the Port Boston.

(2) All vessel operators shall comply with the instructions of the COTP or the designated on-scene U.S. Coast Guard patrol personnel. On-scene Coast Guard patrol personnel include commissioned, warrant, and petty officers of the Coast Guard on board Coast Guard, Coast Guard Auxiliary, local, state, and federal law enforcement vessels.

Dated: March 15, 2001.
J.R. Whitehead,
Captain, U.S. Coast Guard, Captain of the Port, Boston, Massachusetts.

[FR Doc. 01-10574 Filed 4-27-01; 8:45 am]

BILLING CODE 4910-15-U